DEPARTMENT OF HEALTH AND HUMAN SERVICES

Centers for Disease Control and Prevention Healthcare

Infection Control Practices Advisory Committee (HICPAC)

Correction: This notice was published in the Federal Register on April 14, 2017, Volume 82, Number 71, pages 17996-17997. The Status should read as follows:

Open to the public limited only by the availability of 200 telephone ports. To register for this call, please go to www.cdc.gov/hicpac. Time will be available for public comment.

Contact Person for More Information: Erin Stone, M.A., HICPAC, Division of Healthcare Quality Promotion, NCEZID, CDC, 1600 Clifton Road NE., Mailstop A-31, Atlanta, Georgia 30333; Email: HICPAC@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-09206 Filed 5-5-17; 8:45 am]

BILLING CODE 4163-18-P